DEPARTMENT OF LABOR

Employment and Training Administration

[TA-W-50,915]

TechBooks, York, PA; Notice of Revised Determination on Reconsideration

By application of May 7, 2003, a petitioner requested administrative reconsideration regarding the Department's Negative Determination Regarding Eligibility to Apply for Worker Adjustment Assistance, applicable to the workers of the subject firm.

The initial investigation resulted in a negative determination issued on March 31, 2003, based on the finding that the petitioning workers did not produce an article within the meaning of section 222(3) of the Act. The denial notice was published in the Federal Register on April 11, 2003 (68 FR 17831).

To support the request for reconsideration, the petitioner supplied additional information to supplement that which was gathered during the initial investigation. Upon further review, including an examination of the materials provided by the petitioner, it was established that the petitioning workers did produce a product.

In addition, it was revealed that the company shifted pre-press produced by the subject firm workers to a foreign source, and shipped the product back to the United States during the relevant period.

Conclusion

After careful review of the additional facts obtained on reconsideration, I conclude that increased imports of articles like or directly competitive with those produced at TechBooks, York, Pennsylvania, contributed importantly to the declines in sales or production and to the total or partial separation of workers at the subject firm. In accordance with the provisions of the Act, I make the following certification:

All workers of TechBooks, York, Pennsylvania, who became totally or partially separated from employment on or after February 11, 2002 through two years from the date of this certification, are eligible to apply for adjustment assistance under Section 223 of the Trade Act of 1974.

Signed in Washington, DC, this 11th day of July, 2003.
Elliott S. Kushner,
Certifying Officer, Division of Trade Adjustment Assistance.

[FR Doc. 03-18820 Filed 7-23-03; 8:45 am]

BILLING CODE 4510-30-P